DEPARTMENT OF TRANSPORTATION

Bureau of Transportation Statistics

[Docket BTS-2001-10909]

Agency Information Collection Activities Under OMB Review: OMB No. 2139-0002 and 2139-0004 (Financial and Operating Statistics for Motor Carriers of Property)

AGENCY: Bureau of Transportation Statistics (BTS), DOT.

ACTION: Notice of final disposition.

SUMMARY: BTS has submitted the following two Information Collection Requests (ICRs) described in this notice to the Office of Management and Budget (OMB) for review and approval as required under the Paperwork Reduction Act of 1995 (PRA), Pub. L. 104-13. The agency has issued two previous Federal Register notices on related PRA burden estimates. BTS has received additional public comments on the related burden estimates for motor carriers of property (Class I and Class II) subject to BTS regulations, and OMB has asked the agency to conduct a reevaluation of the ICRs and the related burden estimates. Therefore, based on comments received to BTS Docket 10909, BTS is providing a summary of its reevaluation and analysis of the original burden estimates for each ICR and is requesting an extension from OMB through May 31, 2005. The current OMB approval expires on May 31, 2003, for each form.

DATES: Comments must be submitted on or before November 29, 2002.

ADDRESSES: Send comments to the Office of Information and Regulatory Affairs, Office of Management and Budget, New Executive Office Building, NW., Room 10202, Washington, DC 20502, ATTN: Desk Officer for the Bureau of Transportation Statistics. Comments should identify the docket number and be submitted in duplicate. OMB requests comments by November 29, 2002, to process the ICR expeditiously.

FOR FURTHER INFORMATION CONTACT: Paula R. Robinson, Compliance Program Manager, Office of Motor Carrier Information, K-13, Bureau of Transportation Statistics, 400 Seventh Street, SW., Washington, DC 20590-0001; (202) 366-2984; fax: (202) 366-3364; e-mail: paula.robinson@bts.gov.

SUPPLEMENTARY INFORMATION: Title: Financial and Operating Statistics for Motor Carriers of Property.

OMB Approval Numbers: 2139-0002 (Form QFR) and 2139-0004 (Form M).

The Financial and Operating Statistics (F&OS) for Motor Carriers of Property is a collection of annual and quarterly financial and operating statistics data from the motor carrier community. The regulations require motor carriers of property with annual revenues of $3 million or more to file annual reports, and carriers with annual revenues of $10 million or more to file quarterly reports with BTS, as required by 49 CFR 1420, Reports of Motor Carriers. The agency ensures that the data and information collected are made publicly available as mandated by Congress (49 U.S.C. 14123).

In accordance with OMB regulations (5 CFR part 1320), each agency that is renewing an information collection activity must notify the public of its intention to renew the collection activity, provide an opportunity for public comment, and notify the public when the agency has sent its information clearance package to OMB. Under the PRA (44 U.S.C. 3501-3520), Federal agencies must obtain approval from OMB for each information collection they conduct or sponsor. BTS solicited public comment on November 5, 2001, on the information collection requirements for OMB 2139-0002 (Form QFR) and OMB 2139-0004 (Form M) contained in BTS regulations, Reports for Motor Carriers (66 FR 55981). The notice received three comments to the docket from the Central Analysis Bureau (CAB), International Brotherhood of Teamsters, and Inland Marine Underwriters Association. Pursuant to OMB requirements, a second notice was published on March 5, 2002, (67 FR 10043), allowing a 30-day comment period. BTS received 18 additional comments to the docket, some after the comment period closed on April 4, 2002.

Sixteen motor carriers, one government agency, and one private insurance organization provided additional comments to the docket. The motor carriers were All-Pro Transport, Inc.; Burns Motor Freight, Inc.; Daggett Truck Line, Inc.; Falcon Transport, Inc.; Fikes Truck Line, Inc.; Howell's Motor Freight, Inc.; Market Transport Ltd.; New Country, Inc.; Olson Carriers, Inc.; Paschall Truck Lines, Inc.; PFT Transport, Inc.; Pioneer Transport, Inc.; RJW Transport, Inc.; Stagecoach Cartage and Distribution, Inc.; USA Truck, Inc.; and Witte Bros. Exchange, Inc. The carriers' comments were virtually identical (similar to form letters) and each opposed the agency's data collection program. CAB and the U.S. Department of Commerce's Bureau of Economic Analysis (BEA) provided comments supporting the program. CAB included supplemental information to comments previously submitted to this docket. All comments have been considered and included as part of the agency's overall reevaluation of the financial reporting requirements for motor carriers of property (Class I and Class II).

On May 13, 2002, OMB approved a provisional clearance for BTS information collection requests for one year and instructed the agency to address concerns expressed by commenters to the previous ICRs. OMB requested that the agency publish a notice containing any revised estimates of the burden hours required to comply with the ICR. BTS is requesting OMB's approval to extend the existing ICR expiration (May 2003) so the data collection instrument may continue being used by motor carriers to report their annual and quarterly financial and operating data. This effort will ensure that decision-making of Federal and private agencies and research activities throughout government, businesses, and academia will continue with benefit to the public. Approval of this request will allow the forms to remain effective for a 3-year period, until May 31, 2005. The results of the agency's reevaluation and analysis are described below.

This notice summarizes the results of the reevaluation and establishes a public comment period of 30 days from the date of publication in the Federal Register. The agency is requesting that the OMB extend the 1-year approval to 3 years once it has conducted a review of the agency's information collection requests. All public comments to the agency's reevaluation and analysis should be sent to OMB at the address shown in the ADDRESSES section above.

Discussion of Comments

BTS has considered the comments to the docket and believes that the F&OS data and associated information serve a useful purpose for many users engaged in analytical and decision-making activities. The users include trucking companies, insurance companies, trade associations and labor organizations, academics, and Federal agencies where trucking industry policy is evaluated and formed, and others that rely on motor carrier statistics to carry out their mandated statistical programs (e.g., Department of Commerce's Bureau of Economic Analysis). Within these sectors, researchers and analysts benchmark expenses ¹ of individual trucking companies; investment analysts provide advice to clients based on industry trends; trade associations and journals use the F&OS data as the basis for analyses on the current economic status of trucking (which itself is used as an indicator of change in economic conditions); and government agencies conduct analysis of F&OS data to anticipate shifts in industry economics and to support policymaking decisions. Trucking company comments assert that the data collected serve no useful purpose. BTS disagrees with that view and invites all users and interested parties to provide BTS with detailed information about the various ways the data are used and the importance of the data to their organizations.

¹ A process of comparing a trucking company's expenses, operating statistics, and other characteristics (e.g., aggregates, compilations, or averages for line item data on Form M (annual report) and/or Form QFR (quarterly report)) with those of other trucking companies or groups of them for the purpose of evaluating how one's company differs from the industry generally, with the end of improving one's results.

All 16 motor carriers disagreed with the proposed reporting requirements, stating that the regulations in 49 CFR 1420 should be eliminated. However, the motor carriers stated in their remarks that if BTS finds it necessary to continue the reporting requirements, then the data and information should focus on the “financial health of individual motor carriers.” The carriers proposed that the Form M be replaced with a postcard that contains only the carrier's name, address, census number, gross and net revenues and gross expenses on an annual basis. They stated that the abbreviated filing would reduce the quantity of the information collected and improve the quality. BTS believes that the data and information currently collected for motor carriers of property subject to BTS regulations are consistent with the requirements of 49 U.S.C. 14123. Given the diversity of the individuals and groups who use BTS data, the agency disagrees with the carriers' suggestion that the Form M be replaced with a “postcard” requesting only limited information about the carrier. BTS does not believe a significant reduction in this reporting requirement would satisfy the statutory requirement or the intentions of Congress. The statute requires that, “at a minimum, such reports shall include balance sheets and income statements.” (See 49 U.S.C. 14123(a).) The agency believes that this postcard version of the form could not provide meaningful balance sheet and income statement data and thus would fall below the minimum requirements of the statute.

Moreover, the basic financial data contained in balance sheet and income statements are generated in the normal course of business by most trucking companies, permitting managers to assess the results of their operations. In addition, they can form the basis for the income tax returns filed by motor carriers. The financial data are often provided to bankers, vendors, other State and Federal governmental licensing agencies, financial rating agencies like Dun and Bradstreet, insurance companies, etc., to assist in the evaluation of a company's financial results. Further, other government agencies involved in the trucking industry require other Form M information, such as carriers' equipment inventory data (number of trucks) and other operational statistics (e.g., number of employees).

Secondly, the commenters asked that the Form QFR be eliminated because it's not required by the statute and serves no useful purpose. Under the governing legislation in 49 U.S.C. 14123, the agency is allowed to collect other reports, including quarterly reports (Form QFR). The collection of quarterly data is valuable to researchers analyzing and evaluating F&OS data. In fact, BTS conducts its own motor carrier industry research on the financial health of the industry for DOT decision-makers, and the data are considered an integral part of these evaluations.

The BTS believes that the regulations have not been shown to represent a significant burden on motor carriers and are critical to many users. The total burden hours reported for these collections are a total of 1.8 hours annually per carrier for the four Form QFR (Quarterly) reports and 9 hours for the Form M (Annual Report). The agency's objective is to continue to work with motor carriers, the transportation industry, the financial community, and other public and private organizations to collect F&OS data and conduct and facilitate useful analysis. The carriers believe that the burden hours are underestimated, but do not provide any data that would lead to more accurate estimates. Therefore, BTS, without any additional data from the carriers to support their position as to the extent of the burden or the lack of usefulness of the data, will not implement their recommendations at this time.

However, BTS will continue to seek ways to reduce the burden on the motor carrier industry and welcomes any ideas, suggestions, or comments from interested parties on ways to improve the reporting process. Specifically, BTS is seeking carrier information that includes details on the amount of time required to complete both forms (Forms M and QFR); the type of person the carrier uses or hires to complete the form (i.e., carrier employees, outside accountant, lawyer, etc.); any associated costs incurred by the carrier; information on filing methods used, including electronic (i.e., CD, internet, etc.), to complete the forms; and form retention activities. BTS notes that while the agency solicits additional data and clarification from carriers regarding the accuracy of BTS burden estimates for these collections, any action to amend the regulations would require substantial rulemaking efforts and the opportunity for public comment.

The comments of the U.S. Department of Commerce's Bureau of Economic Analysis (BEA) in support of the BTS' data collection program stated specifically that they use the program as a “main data source for key components of BEA economic statistics.” Specifically, they reference the BEA's Annual Input-Output Accounts, as well as “essential detail or inputs to supplement the information on motor carriers collected by the Bureau of the Census. * * *”

BTS believes that to continue to benefit the public the decision-making and research activities made possible by the F&OS data collection program must continue in a comprehensive and uninterrupted manner. Some additional public benefits include: government analyses of the business health of the for-hire trucking industry as a basis for policies to facilitate an integral part of the nation's transportation network; continued widespread dissemination and analysis of industry data by trade associations; enabling trucking companies to improve their operations by emulating successful companies as they “benchmark” their operating results against industry averages and assess what improvements they need to make to better serve the public; providing the basis for assessments of profitability by interested parties, including insurance companies and labor unions; allowing shippers and their organizations to make more informed choices among carriers; and supporting the educational process, by providing objective data for academic research, teaching, and training (e.g., of future trucking company managers). Except for publicly-held companies, there are no publicly available individual-carrier-based F&OS other than those from the Form M and Form QFR; these trucking company statistics provide “equal access to data” to benefit the public—regulators and the regulated have the same data upon which to base policy decisions and business planning analyses. In addition, BTS is involved in extensive analyses of the motor carrier industry using QFR data. Results of these analyses are used within the Department of Transportation and will be soon be released and available to the public.

The agency also disagrees that BTS forms are not available for on-line filing. For more than a year, the agency has placed additional resources on BTS' Web site in order to reduce the burden on the industry and to encourage more electronic filing. The agency has determined that there has been a 30% increase in the number of motor carriers filing reports (Form M and Form QFR) using on-line and other electronic methods. In addition, the agency has implemented automated quality control and edit-check (QC/EC) systems to improve the completeness of filed reports and the accuracy of the data. The agency expects these efforts to increase the total number of motor carriers filing on-line reports.

CAB is also in support BTS' efforts to collect financial and operating statistics for motor carriers. CAB submitted comments that were discussed in the agency's second notice published on March 5, 2002 (67 FR 10043). CAB, in its remarks, requested the agency to include additional data items on the Form M. CAB supports BTS' need for the data collection program and, as a major user of the data, believes the Form M can be completed in less than 9 hours, based on motor carriers compiling the same data for corporate and tax purposes. CAB felt the burden estimate for the second ICR, Form QFR, was reasonable.

The CAB provided additional comments to the docket containing supplemental information to support its original comments in the docket. CAB's suggested that its proposal added no discernible impact on the reporting burden. BTS will consider the CAB's comments in future rulemakings associated with these information collections.

As noted above, the BEA is in strong support of the agency's continued collection of F&OS data. BEA commented that the data are essential to its Annual Input-Output Accounts, which are used to prepare estimates of industry output and in understanding the infrastructure of the economy.

Based on the statutory requirements, BTS considered some of the comments in the docket beyond the scope of its data collection program evaluation. Below is a brief summary of the agency reevaluation for each ICR under the appropriate approval number. The estimates that appear in the agency's evaluation are identical to those used in the ICR submission to OMB for renewal of the BTS Forms.

I

OMB Approval Number: 2139-0002 (Form QFR).

Title: Quarterly Report of Class I Motor Carriers of Property.

Estimated annual burden hours: The Quarterly Report of Class I Motor Carriers of Property (Form QFR) imposes 1,800 (27 minutes per quarter) total annual burden hours on motor carriers reporting to BTS. The figures shown on the information collection supporting statement (on file with OMB) for this collection are estimates based on the total number of filers (including new entrants and repeat filers), the frequency of reporting, and the time needed to compile the information and record information on the form (used to comply with the BTS regulations in 49 CFR part 1420).

Reporting: BTS regulations for the Form QFR are applicable to for-hire (common and contract) carriers that generate $10 million or greater in gross annual operating revenues. Motor carriers that meet this requirement must report their quarterly F&OS data to BTS. The data collected include selected income statement information along with information on tonnage, mileage, and number of shipments. These data are contained on a single page and are extracted from normal trucking management reports and accounting information that most carriers have readily available. BTS estimates that approximately 1,000 respondents each take an estimated 1.8 hours (27 minutes per quarter) annually to file quarterly reports with BTS. The total annual burden-hour estimate is 1,800 hours (1.8 hours × 1,000). The total number of respondents is based on the maximum average number of respondents per quarter, including new entrants and repeat filers. New entrants are typically motor carriers that are reporting data on the Form QFR for the first time. This group of carriers normally requires additional time to complete the two-page form with additional assistance from BTS as well as other sources. These estimates were based in part on estimates contained in the last approved ICR.

Agency data show that about 30% of the repeat filers report on the Form QFR through electronic means (i.e., Internet, disk, or CD) while 70% use written reports to file using downloadable forms or forms provided by BTS. The time needed to meet the reporting requirement for this collection is more for the first time filer and less for the repeat. As part of its overall estimate, the agency considered previously reported figures and recalculated the estimates based on the total number of electronic filers.

II

OMB Approval Number: 2139-0004 (Form M).

Title: Annual Report of Class I and Class II Motor Carriers of Property.

Estimated annual burden hours: BTS estimates that the Annual Report of Class I and Class II Motor Carriers of Property (Form M) ($3 million or greater in adjusted operating revenue) imposes 27,000 annual burden hours on motor carriers reporting to BTS. The figures shown in the supporting statement are estimates based on the total number of filers (including new entrants and repeat filers), the frequency of reporting, and the time needed to compile the information (including recording the information on the form).

Reporting: BTS regulations for the Form M are applicable to for-hire (common and contract) carriers that generate $3 million or more gross annual operating revenues. These carriers are required to report their F&OS data to BTS. The data collected include selected balance sheet and income statement data along with information on tonnage, mileage, employees, transportation equipment, and other related data. BTS records show that in FY 2001 approximately 3,000 motor carriers filed a Form M. BTS estimates that each Form M (8 pages) takes about 9 hours (average) to complete. Approximately 30% of the carriers use electronic methods (Internet, CD, or disk), which require less than 9 hours to file; carriers that do not file on-line may require more time. The respondent carriers employ their own staff as well as outside accountants, lawyers, and other experts to complete the forms. BTS data indicate that although a large number of carriers that file the Form M are repeat filers, a substantial number of filers are new entrants, which require additional time to complete the Form M. Although the agency has seen an increase in new entrants over the years due to educational and outreach campaigns to the industry, this increase has been offset somewhat by the number of bankruptcies and firms going out of business (as shown in recent industry financial reports such as Dun and Bradstreet and Standard and Poor's). BTS includes these factors when determining estimates of the time required for this information collection.

Estimated Annual Cost of Burden: The combined estimated cost to the government is $1.2 million dollars for the Form M and Form QFR. This figure includes salary costs based on hours, overhead, printing, and payment to contractors. The agency, having received no supporting data as to the magnitude of the burden on carriers, employs the following estimate of normal costs of motor carriers associated with filing BTS' Form M (annual) and Form QFR (quarterly). The number of burden hours is 9 hours for the Form M and 1.8 hours for the Form QFR. Based on Bureau of Labor Statistics (BLS) data, an accountant's cost is $21.56 per hour with a fringe benefit percentage of 44.4%. If we apply these dollars to the hourly efforts for motor carriers for each form, the result is $895,968 (for Form M) and $55,998 (for Form QFR), for a combined total of $951,966 for the motor carrier industry.

BTS Burden Hours Estimates
| Class II motor carriers (OMB #2139-0002) | Class I & II motor carriers (OMB #2139-0004)
Number of Respondents | 1,000 | 3,000.
Frequency of Responses | Quarterly | Annual.
Estimated Time Per Carrier | 1.8 hours (27 minutes per quarter) | 9 hours.
Prior Total Annual Burden Hours | 1,800 | 27,000.
Revised Total Annual Burden Hours | No Change | No Change.
Estimated Costs on Motor Carriers | Change: $55,998 (est) | Change: $885,968 (est.).

Data and Sources

1. Mean hourly wage estimate for accountants: $21.56. (Source: 2000

National Industry-Specific Occupational Employment and Wage Estimates, SIC 421—Trucking and Courier Services, Except Air, 13-2011 Accountants and Auditors, 09/06/02; http://www.bls.gov/oes/2000/oesi3_421.htm)

2. Mean hourly earnings for accountants: $21.51. (Source: Table 1: Hourly Earnings of Full-time and Weekly and Annual Work Hours, National Compensation Survey, 2000, “Accountants and Auditors,” BLS Monthly Labor Review, March 2002, p. 49.)

3. Employer costs per hour worked for employee compensation; “total compensation”: $20.01 (Source: BLS News, USDL: 02-346, June 19, 2002.)

Russell B. Capelle, Jr.,
Assistant BTS Director for Motor Carrier Information, U.S. Department of Transportation.

[FR Doc. 02-27527 Filed 10-29-02; 8:45 am]

BILLING CODE 4910-FE-P